DEPARTMENT OF DEFENSE

Office of the Secretary

[Docket ID DoD-2021-OS-0093]

Proposed Collection; Comment Request

AGENCY: Office of Military Commissions, Department of Defense (DoD).

ACTION: Information collection notice.

SUMMARY: In compliance with the Paperwork Reduction Act of 1995, the Office of Military Commissions announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 29, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of Military Commissions, Victim Witness Assistance Program, 1610 Defense Pentagon Room 3B652, Washington, DC 20301-1610. Attn: Karen Loftus, 703-695-7089.

SUPPLEMENTARY INFORMATION: Title; Associated Form; and OMB Number: Office of Military Commissions Victim and Witness Assistance Program Records, DGC 22, OMB Control Number 0704-VWAP.

Needs and Uses: The information collection is necessary to obtain the proper information for victims, victim family members (VFMs), and witnesses to travel to Guantanamo Bay, Cuba (GTMO) to view and support the GTMO trials. The information will also be used to obtain clearance for victims and VFMs to travel to military installations for the purpose of viewing Closed Circuit Television of the GTMO trials.

Affected Public: Individuals or households.

Annual Burden Hours: 17.

Number of Respondents: 100.

Responses per Respondent: 1.

Annual Responses: 100.

Average Burden per Response: .17 hours (10 minutes).

Frequency: As Required.

Information collected includes full name, Social Security Number (SSN), alien registration number, immigration certification number and petition number, mailing address, home telephone number(s) and email address(s), citizenship, passport information, driver's license number, gender, race/ethnicity, date of birth, place of birth, weight, height, hair color, eye color, security clearance information, name of the deceased or injured, relationship to the victim, case name, requests to view closed circuit television broadcasts of hearings, travel-related information (emergency point of contact information, physician's information), military status and grade, whether or not the person has been convicted of a felony, and statements for the court from family members on how their loss affected them.

Dated: August 24, 2021.
Kayyonne T. Marston,
Alternate OSD Federal Register Liaison Officer, Department of Defense.

[FR Doc. 2021-18557 Filed 8-27-21; 8:45 am]

BILLING CODE 5001-06-P